DEPARTMENT OF TRANSPORTATION

Federal Motor Carrier Safety Administration

[FMCSA Docket No. FMCSA-2003-14652]

Commercial Driver's License Standards; Isuzu Motors America, Inc.'s Exemption Application

AGENCY: Federal Motor Carrier Safety Administration (FMCSA), DOT.

ACTION: Notice of renewal of exemption; request for comments.

SUMMARY: FMCSA announces its decision to renew Isuzu Motors America, Inc.'s (Isuzu), exemption from the Agency's requirement for drivers of commercial motor vehicles (CMVs) to hold a commercial driver's license (CDL). Isuzu requested that its exemption for 19 Japanese engineers and technicians be renewed to enable these individuals to continue test driving CMVs in the United States for Isuzu. All of the individuals hold a valid Japanese CDL. FMCSA believes the knowledge and skills testing and training program that drivers must undergo for a Japanese CDL ensures a level of safety that is equivalent to, or greater than, the level of safety that would be obtained by complying with the U.S. requirement for a CDL.

DATES: This decision is effective June 21, 2006. Comments must be received on or before July 21, 2006.

ADDRESSES: You may submit comments to the DOT Docket Management System (DMS), referencing Docket Number FMCSA-2003-14652, using any of the following methods:

• Web Site: http://dmses.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the Agency name and docket numbers for this notice. Note that all comments received will be posted without change to http://dms.dot.gov, including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want us to notify you that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the Department of Transportation's complete Privacy Act Statement in the Federal Register published on April 11, 2000 (65 FR 19477; Apr. 11, 2000). This information is also available at http://dms.dot.gov.

FOR FURTHER INFORMATION CONTACT: Mr. Thomas Yager, Chief, Driver and Carrier Operations Division, Office of Bus and Truck Standards and Operations, MC-PSD, Federal Motor Carrier Safety Administration, 400 Seventh Street, SW., Washington, DC 20590-0001. Telephone: 202-366-4009. E-mail: MCPSD@dot.gov.

SUPPLEMENTARY INFORMATION:

Background

Under 49 U.S.C. 31315 and 31136(e), FMCSA may renew an exemption from the CDL requirements in 49 CFR 383.23 for a two-year period if it finds “such exemption would likely achieve a level of safety that is equivalent to, or greater than, the level that would be achieved absent such exemption.” The procedures for requesting an exemption (including renewals) are prescribed in 49 CFR part 381. FMCSA has evaluated Isuzu's application for a renewal on its merits and decided to renew the exemption for 19 of Isuzu's engineers and technicians for a two-year period.

Isuzu Application for an Exemption Renewal

Isuzu Motors America, Inc. applied for the renewal of an exemption from the commercial driver's licensing rules, specifically 49 CFR 383.23, which establishes licensing requirements for drivers operating CMVs in interstate commerce. The exemption was originally granted on October 16, 2003 (68 FR 59677). Isuzu Motors America, Inc. is seeking a renewal of this exemption because the drivers it employs are citizens and residents of Japan. As such they cannot apply for a CDL from a State in the United States. A copy of the request for a renewal is in the docket identified at the beginning of this notice.

The renewal of the exemption will enable the following drivers to operate CMVs as part of a team of drivers to develop, design and/or test engines for vehicles that will be manufactured, assembled, sold or primarily used in the United States. These are 19 of the 31 drivers included in the original exemption: Shiro Fukuda, Wataru Kumakura, Takao Kudou, Takehito Yaguchi, Tsutomu Yamazaki, Toshiya Asari, Yasuhito Tahara, Shigeru Takamatsu, Shintaro Moroi, Motoki Nishi, Kazunori Iigou, Kazuyoshi Shimamura, Masaru Otsu, Satoru Amemiya, Tsuyoshi Koyama, Fumio Oota, Nobuyuki Miyazaki, Masao Inoue, and Hiroyoshi Takahashi.

These drivers are a team of engineers and technicians, currently employed by Isuzu Motors Limited in Japan, who operate CMVs in the United States to test and evaluate production and prototype CMVs to be sold for use on U.S. highways. They are experienced CMV operators with valid Japanese-issued CDLs. Because each of the drivers was required to satisfy strict regulations in Japan to obtain a CDL, and has extensive CMV training and experience, Isuzu Motors America, Inc. believes that the renewal of the exemption will continue to achieve a level of safety equivalent to the level of safety that would be obtained absent the exemption. Isuzu states in its application for exemption that none of these drivers received any traffic citations or were involved in any accidents from the time of the exemption on October 16, 2003, through the date of its application for renewal.

Method To Ensure an Equivalent or Greater Level of Safety

Drivers applying to obtain a Japanese-issued CDL must take both a knowledge test and skills test before a license to operate CMVs is issued. Prior to taking the tests, drivers are required to hold a conventional driver's license for at least three years. Therefore, the process for obtaining a Japanese-issued CDL is considered to be comparable to or as effective as the requirements of 49 CFR part 383 and adequately assesses the driver's ability to operate CMVs in the United States.

Once a driver is granted a Japanese CDL, he or she is allowed to drive any CMV currently allowed on Japanese roads. There are no limits to types or weights of vehicles that may be operated by the drivers. It is estimated that each driver would continue to drive approximately 5,000 miles per year on U.S. roads.

Request for Comments

In accordance with 49 U.S.C. 31315(b)(4) and 31136(e), FMCSA requests public comments on Isuzu's request for a renewal of its exemption from the requirements of 49 CFR 383.23. The Agency requests that interested parties with specific data concerning the safety records of the drivers listed in this notice submit comments by July 21, 2006. FMCSA will review all comments received by this date and determine whether the renewal of the exemption is consistent with the requirements of 49 U.S.C. 31315 and 31136(e). Comments received after the comment closing date will be filed in the public docket and will be considered to the extent practicable, but FMCSA may make its final decision at any time after the close of the comment period.

FMCSA believes the requirements for a renewal of an exemption under 49 U.S.C. 31315 and 31136(e) can be satisfied by initially granting the renewal and then requesting and subsequently evaluating comments submitted by interested parties. As indicated above, the Agency previously published a notice of final disposition announcing its decision to exempt these 19 Isuzu drivers from the CDL requirement in 49 CFR 383.23. The decision to renew the exemption for these drivers was based on the merits of each driver's demonstrated knowledge and skills about the safe operation of commercial motor vehicles, and only after careful consideration of the comments submitted in response to the April 30, 2003 (68 FR 23174) notice. The notice of application for exemption indicated that detailed information about the qualifications and experience of each of the drivers was provided in Isuzu's application and that a copy of the application is in the docket. The docket number is referenced at the beginning of this notice.

Interested parties or organizations possessing information that would otherwise show that any, or all of these drivers, are not currently achieving the requisite statutory level of safety should immediately notify FMCSA. The Agency will evaluate any adverse information submitted and, if safety is being compromised or if the continuation of the exemption is not consistent with 49 U.S.C. 31315(b)(4) and 31136(e), FMCSA will take immediate steps to revoke the exemption of the driver(s) in question.

Authority: 49 U.S.C. 31136 and 31315; and 49 CFR 1.73.

Issued on: June 15, 2006.
David H. Hugel,
Acting Administrator.

[FR Doc. E6-9684 Filed 6-20-06; 8:45 am]

BILLING CODE 4910-EX-P